DEPARTMENT OF STATE

[Delegation of Authority: 304-1]

Delegation by the Secretary of State to the Under Secretary of State for Arms Control and International Security of Authority To Submit Certain Non-Proliferation Reports to Congress

By virtue of the authority vested in me as the Secretary of State, including Section 1 of the State Department Basic Authorities Act, as amended (22 U.S.C. 2651a), the authorities enumerated below, and Executive Order 13346, I hereby delegate to the Under Secretary for Arms Control and International Security, to the extent authorized by law, the authority to approve submission of reports to Congress pursuant to:

(1) Section 1344 of the Foreign Relations Authorization Act, Fiscal Year 2003, Public Law 207-228;

(2) Section 2809(c)(2) of the Foreign Affairs Reform and Restructuring Act of 1998, Public Law 105-277;

(3) Section 1343(a) of the Iran Nuclear Proliferation Prevent Act of 2002 (incorporated in the Foreign Relations Authorization Act, Fiscal Year 2003), Public Law 107-228;

(4) Section 204(c) of the International Emergency Economic Powers Act (50 U.S.C. 1701 et seq.) and Section 401(c) of the National Emergencies Act (50 U.S.C. 1601 et seq.);

(5) Section 1308(a) of the Foreign Relations Authorization Act for FY 2003, Public Law 107-228;

(6) Determination and Congressional Reporting Requirement Concerning Israeli Participation in the IAEA required by the Foreign Operations, Export Financing, and Related Programs Appropriations Act, 2006, Title II of Public Law 109-102; and

(7) Certification consistent with section 2(7)(C)(i) of the resolution of advice and consent to ratification of the Chemical Weapons Convention adopted by the Senate on April 24, 1997, with respect to the effectiveness and viability of the Australia Group.

Any act, executive order, regulation or procedure subject to, or affected by this delegation shall be deemed to be such act, executive order, regulation or procedure, as amended from time to time.

Notwithstanding this delegation of authority, the Secretary, the Deputy Secretary, or the Deputy Secretary for Management and Resources may at any time exercise any authority or function delegated by this delegation or authority.

This Delegation of authority supersedes Delegation of Authority 304, dated February 16, 2006, and shall be published in the Federal Register.

Dated: October 28, 2011.
Hillary Rodham Clinton,
Secretary of State.

[FR Doc. 2011-29154 Filed 11-9-11; 8:45 am]

BILLING CODE 4710-27-P